DEPARTMENT OF JUSTICE

Antitrust Division

Notice Pursuant to the National Cooperative Research and Production Act of 1993—Robotics Technology Consortium, Inc.

Notice is hereby given that, on October 15, 2009, pursuant to Section 6(a) of the National Cooperative Research and Production Act of 1993, 15 U.S.C. 4301 et seq. (“the Act”), Robotics Technology Consortium, Inc. (“RTC”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: 5D Robotics, Inc., Boise, ID; Adaptive Materials, Inc., Ann Arbor, MI; Advanced Scientific Concepts Inc., Santa Barbara, CA; Advanced Technology Institute (ATI), Charleston, SC; Aerius Photonics, LLC, Ventura, CA; Alion Science and Technology Corporation, Westminster, MD; Alliance Spacesystems, LLC, Pasadena, CA; American Reliance, Inc. (ANREL), El Monte, CA; AnthroTronix, Inc., Silver Spring, MD; Applied Research Associates, Inc., Albuquerque, NM; Applied Systems Intelligence, Inc., Alpharetta, GA; Artisan Robotics, Tucson, AZ; Atair Aerospace, Inc., Brooklyn, NY; ATI Industrial Automation, Apex, NC; Autonomous Exploration, Inc., Andover, MA; Autonomous of Justice Vision Solutions Inc., Petersboro, UT; BAE Systems Land & Armaments, Santa Clara, CA; Barrett Technology, Inc., Cambridge, MA; Battelle Energy Alliance LLC, Idaho Falls, ID; Battelle Memorial Institute, Columbus, OH; BFA Systems, Inc., Huntsville, AL; BioMimetic Systems, Cambridge, MA; BioRobots, LLC, Cleveland, OH; Black-I Robotics, Inc., Tyngesbero, MA; Black & Rossi, LLC, The Woodlands, TX; Boston Dynamics Inc., Waltham, MA; Boston Engineering Corporation, Waltham, MA; Braintech, Inc., Washington, DC; Broadcast Microwave Services, Inc., Poway, CA; Burnham Consulting Inc., Chesterfield, MO; Butterfly Haptics, LLC, Pittsburgh, PA; C-21, Inc., Stow, MA; Carnegie Mellon University, Pittsburgh, PA; Chatten Associates, Inc., West Conshohocken, PA; Concurrent EDA LLC, Pittsburgh, PA; Concurrent Technologies, Inc., Pittsburgh, PA; Cybernet Systems Corporation, Ann Arbor, MI; Defense Research Associates Inc., Beavercreek, OH; Defined Business Solutions (Formerly Defined Business Strategies), Washington, DC; DEL Services, LLC, Eldersburg, MD; Delta Information Systems, Inc., Horsham, PA; DeVivo AST, Inc., Huntsville, AL; DRS Sensors & Targeting Systems, Inc., Cypress, CA; DTC Communications, Inc., Washington, DC; EDAG Inc., Auburn Hills, MI; Elbit Systems of America, LLC, Fort Worth, TX; EmergentViews, Inc., San Francisco, CA; Energid Technologies Corporation, Cambridge, MA; Esys Integration Corporation, Auburn Hills, MI; First Response Robotics, LLC, Amelia, OH; Foster-Miller, Inc., Waltham, MA; General Dynamics Robotic Systems, Westminster, MD; Georgia Tech Applied Research Corporation, Smyrna, GA; Great Lakes Sound & Vibration, Inc. (GLSV), Houghton, MI; Harris Corporation, GCSD, Melbourne, FL; HDT Engineering Services, Inc. (formerly New World Associates, Inc.), Fredericksburg, VA; Honeybee Robotics, New York, NY; Honeywell International, Phoenix, AZ; Ibis-Tek, Butler, PA; Innovative Technical Solutions, Inc. (NovaSol), Honolulu, HI; Institute for Disabilities Research (IDRT), Wheaton, MD; Integrated Solutions for Systems Inc. (IS4S), Huntsville, AL; International Computer Science Institute, Berkeley, CA; Inuktun USA, LLC, Robert, LA; iRobot Corp., Bedford, MA; i Track Inc., Oxford, MI; ITT Corporation, Albuquerque, NM; JADI, Inc., Troy, MI; Jet Propulsion Laboratory (JPL), Pasadena, CA; John H. Northrop & Associates, Inc., Burke, VA; Kairos Autonomi, Sandy, UT; KJVision LLC, Philadelphia, PA; Klett Consulting Group, Inc., Virginia Beach, VA; Kuchera Defense Systems, Windber, PA; Lithos Robotics Corporation, Amherst, NY; Lockheed Martin, Bethesda, MD; Macro USA, Roseville, CA; Mel Siegel, Consultant in Science & Technology, Pittsburgh, PA; Mercedes-Benz Research & Development, Palo Alto, CA; Mesa Robotics, Inc., Madison, AL; Mobile Intelligence Corporation, Livonia, MI; Mobile Robots Inc., Amherst, NH; National Robotics Training Center (NRTC) Florence Darlington Technical College, Florence, SC; Navtech GPS, Springfield, VA; Neptec USA Inc., Houston,TX; Next Wave Systems, LLC, Pekin, IN; Nomadio, Inc., Philadelphia, PA; Northrop Grumman Remotec, Clinton, TN; Northwest UAV Propulsion Systems (NWUAV), McMinnville, OR; Novint Technologies, Inc., Albuquerque, NM; NuVision Engineering, Inc., Pittsburgh, PA; Oceana Sensor Technologies, Inc., Virginia Beach, VA; Old Dominion University, Norfolk, VA; Onvio, LLC, Salem, NH; Oshkosh Corporation, Oshkosh, WI; Pandora Data Systems, Inc., Santa Cruz, CA; PERL Research LLC, Huntsville, AL; Photon-X, Inc., Huntsville, AL; Photon-X, LLC, Huntsville, AL; PNI Sensor Corporation, Santa Rosa, CA; Polaris Sensor Technologies, Inc., Huntsville, AL; Prioria Robotics, Inc., Gainesville, FL; Quantum 3D, Inc., San Jose, CA; Quantum Signal, LLC, Ann Arbor, MI; Rababy & Associates, LLC, Spotsylvania, VA; Raytheon Co., Waltham, MA; RE2, Inc., Pittsburgh, PA; Readylabs, Inc., Pleasanton, CA; ReconRobotics, Inc., Edina, MN; Rep Invariant Systems, Inc., Cambridge, MA; RF Extreme, Hackettstown, NJ; Robotex Incorporated, Palo Alto, CA; Robotic Research, LLC, Gaithersburg, MD; Robotics Research Corporation, Cincinnati, OH; Robotic Technology, Inc., Potomac, MD; Robot Worx, Marion, OH; RPU Technology, Inc., Needham, MA; Sarnoff Corporation, Princeton, NJ; SAVIT Corporation, Parsippany, NJ; Science Applications International Corporation (SAIC), San Diego, CA; Scientific Applications & Research Assoc., Inc. (SARA), Cypress, CA; Scientific Systems Company, Inc., Woburn, MA; Secure Axxess Solutions, LLC, Nashua, NH; Seegrid Corporation, Pittsburgh, PA; Sense Technologies, LLC, Boerne, TX; SET Corporation, Arlington, VA; Shee Atika Technologies, LLC, Kirkland, WA; Silvus Technologies, Inc., Los Angeles, CA; SJ Automation LLC, Monterey, CA; SkEyes Unlimited Corp., Washington, PA; Smart Information Flow Technologies, LLC (SIFT), Minneapolis, MN; Soar Technology, Inc., Ann Arbor, MI; Southwest Research Institute, San Antonio, TX; SRI International, Menlo Park, CA; Stealth Robotics, LLC, Longmont, CO; StratBot, Villanova, PA; STRATOM, Inc., Boulder, CO; Sullivan Advanced Technology, San Diego, CA; TBI, LLC, Washington, DC; Technical Products Inc., Ayer, MA; Tech Team Government Solutions, Ann Arbor, MI; Texas A&M University, College Station, TX; Textron Systems Corp., Wilmington, MA; The Boeing Company, Chicago, IL; The Charles Stark Draper Laboratory, Cambridge, MA; The Droid Works, Inc., Wayland, MA; The Pennsylvania State University, Freeport, PA; The Regents of the University of Michigan, Ann Arbor, MI; The Technology Collaborative (NCDR), Pittsburgh, PA; The University of North Carolina at Chapel Hill, Chapel Hill, NC; The University of Texas at Austin, Austin, TX; Think-A-Move, Ltd, Beachwood, OH; Three Rivers 3D, Inc., Gibsonia, PA; TORC Technologies, Blacksburg, VA; Torrey Pines Logic, Inc., San Diego, CA; Toycen Corporation, Ogdenburg, NY; TRACLabs Inc., Houston, TX; TYZX, Inc., Menlo Park, CA; Ultra Electronics Measurement Systems Inc., Wallingford, CT; University of Florida, Gainesville, FL; University of Louisiana at Lafayette, Lafayette, LA; University of Pennsylvania, Philadelphia, PA; University of Washington, Seattle, WA; University of Wyoming, Laramie, WY; Valde Systems, Inc., Brookline, NH; Vecna Technologies, Inc., College Park, MD; Velodyne Lidar, Inc., Morgan Hill, CA; Virginia Tech, Blacksburg, VA; Vision Robotics Federal Systems, LLC, San Diego, CA; West Virginia High Technology Consortium Foundation (WVHTCF), Fairmont, WV; WINTEC, Incorporated, Walton Beach, FL; and Worcester Polytechnic Institute, Worcester, MA.

The general areas of RTC's planned activities are: (a) To enter in to an agreement with the U.S. Government to provide the U.S. Government advice in developing and executing ground robotics endeavors by performing certain research and development (including prototype projects) in the area of robotics, to be conducted in collaboration with the U.S. Government and Members, as selected, funded and technically supervised by the U.S. Government; (b) to collaboratively and collectively provide the U.S. government with input and advice on non-proprietary, nonconfidential technical concepts and issues; (c) to inform members of Congress and their staff and other branches of the U.S. Government about robotics technology research; and, (d) to engage in any other lawful activities that will further the purposes of RTC.

Patricia A. Brink,
Deputy Director of Operations, Antitrust Division.

[FR Doc. E9-28364 Filed 11-27-09; 8:45 am]

BILLING CODE 4410-11-M